COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add product(s) and service(s) to the Procurement List that will be furnished by nonprofit agencies employing persons who are blind or have other severe disabilities.

DATES: Comments must be received on or before: December 27, 2020.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

6505-01-420-9275—Rehydration Salts, Oral, Lemon, 50g

6505-01-562-3894—Rehydration Salts, Oral, Modified, Lemon, 10g

6505-01-491-7131—Rehydration Salts, Oral, Modified, Mixed Berry, 10g

6505-01-491-8351—Rehydration Salts, Oral, Modified, Citrus, 21g

6505-01-525-8930—Rehydration Salts, Oral, Modified, Fruit Punch, 21g

6505-01-575-8540—Rehydration Salts, Oral, Orange, 12.5g

6505-01-575-8568—Rehydration Salts, Oral, Lime, 12.5g

6505-01-575-8578—Rehydration Salts, Oral, Pomegranate Acai Blueberry, 12.5g

Designated Source of Supply: Alphapointe, Kansas City, MO

Contracting Activity: Defense Logistics Agency, DLA Troop Support

Service(s)

Service Type: Contractor Operated Civil Engineer Supply Store

Mandatory for: U.S. Air Force, Whiteman AFB, MO

Designated Source of Supply: South Texas Lighthouse for the Blind, Corpus Christi, TX

Contracting Activity: Dept of the Air Force, FA4625 509 CONS CC

Michael R. Jurkowski,
Deputy Director, Business & PL Operations.

[FR Doc. 2020-26235 Filed 11-25-20; 8:45 am]

BILLING CODE 6353-01-P